DEPARTMENT OF COMMERCE

National Oceanic and Atmospheric Administration

RIN 0648-XC677

North Pacific Fishery Management Council; Public Meetings; Correction

AGENCY: National Marine Fisheries Service (NMFS), National Oceanic and Atmospheric Administration (NOAA), Commerce.

ACTION: Notice of public meetings; correction.

SUMMARY: The North Pacific Fishery Management Council (Council) and its advisory committees will hold public meetings, June 3-11, 2013 at the Centennial Hall, 101 Egan Drive, Juneau, AK. This document is making the public aware of all of the issues being discussed at the council plenary session. An additional issue is being added to agenda item 7, under the heading “Council Plenary Session”. The original notice published on May 10, 2013, will not be repeated here and all other text in the original notice remains unchanged.

DATES: The Council will begin its plenary session at 8 a.m. on Wednesday, June 5, continuing through Tuesday, June 11, 2013. All meetings are open to the public, except executive sessions.

ADDRESSES: The Council meeting will be held at Centennial Hall, 101 Egan Drive, Juneau, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Correction

In the Federal Register of May 10, 2013, in FR Doc. 2013-11155, on page 27366, in the third column, agenda item 7, under the heading “Council Plenary Session” is corrected to read as follows:

Council Plenary Session:

7. Limited Access Privilege Programs (LAPPs) Cost Recovery: Council recommendation on cost recovery programs for American Fishery Act (AFA), Amendment 80, Community Development Quota (CDQ) groundfish/halibut LAPPs, and Freezer Longline Cooperatives.

Dated: May 14, 2013.
Tracey L. Thompson,
Acting Deputy Director, Office of Sustainable Fisheries, National Marine Fisheries Service.

[FR Doc. 2013-11764 Filed 5-16-13; 8:45 am]

BILLING CODE 3510-22-P